DEPARTMENT OF DEFENSE

Office of the Secretary

[Docket ID: DOD-2020-OS-0067]

Proposed Collection; Comment Request

AGENCY: Under Secretary of Personnel and Readiness, Department of Defense (DoD).

ACTION: Information collection notice.

SUMMARY: In compliance with the Paperwork Reduction Act of 1995, the Office of the Under Secretary of Defense, Personnel and Readiness, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 25, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Assistant Secretary of Defense for Readiness, Force Education and Training, Voluntary Education, ATTN: Ms. Dawn Bilodeau, Pentagon, Room 2E573, Washington, DC 20301-1500, call 571-372-0864, or send email to project officer at: dawn.a.bilodeau.civ@mail.mil.

SUPPLEMENTARY INFORMATION: Title; Associated Form; and OMB Number: DoD Postsecondary Education Complaint Intake Form, DD Form 2961; OMB Control Number 0704-0501.

Needs and Uses: The information collection requirement is necessary to obtain, document, and respond to egregious complaints, questions, and other information concerning actions post-secondary education programs and services provided to military service members and spouse-students. The DoD Postsecondary Education Complaint Intake form will provide pertinent information such as: The content of the complaint, the educational institution the student is attending, the level of study, the education program the student is enrolled in, the type of education benefits being used, the branch of the military service, and the preferred contact information.

Affected Public: Individuals or households; business or other for-profits; not-for-profit institutions.

Annual Burden Hours: 16.

Number of Respondents: 63.

Responses per Respondent: 1.

Annual Responses: 63.

Average Burden per Response: 15 minutes.

Frequency: On occasion.

Respondents are military spouses who submit complaints via the Department of Defense (DoD) Postsecondary Education Complaint Intake form. The PECS Intake form is used to record complaints concerning educational institutions that military spouses feel have acted deceptively, aggressively or fraudulently towards them. The Intake form documents information such as the level of study of the student, the educational institution the student is attending, the type of education benefits being used, the branch of the military service the spouses' sponsor, the content of the complaint, and the preferred contact information for the person making the contact. Complaint Case Managers use information from the Intake form to track and manage cases and to coordinate a resolution with educational institutions, and to provide feedback to the respondent throughout the process and once a resolution has been reached.

Dated: July 20, 2020.
Aaron T. Siegel,
Alternate OSD Federal Register Liaison Officer, Department of Defense.

[FR Doc. 2020-16174 Filed 7-24-20; 8:45 am]

BILLING CODE 5001-06-P